DEPARTMENT OF THE INTERIOR

Bureau of Land Management

[LLIDI00000.L10200000.PH0000 LXSS024D0000 241A 4500088890]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Salmon, Idaho, September 20-21, 2016 for a two-day meeting. The first day will begin at 10:30 a.m. at the Public Lands Center, 1206 South Challis, Salmon, Idaho 83401. The second day will begin at same location starting at 8:00 a.m. adjourning at 1:30 p.m. Members of the public are invited to attend. All meetings are open to the public.

SUPPLEMENTARY INFORMATION: The first day will be held at the office beginning at 10:30 a.m. The agenda includes the following topics: a resource management plan (RMP) update and discussion on public collaboration in that process; discussion on the Western States Wolverine Conservation Project; the Salmon/Challis Vegetation Environmental Assessment Process; Sage-grouse Updates; Wilderness Planning Updates and; Pocatello Field Office's request for assistance as they work on the Blackfoot River Special Recreation Management Area.

On Wednesday, the group will depart the office at 8:00 a.m. to view Land and Water Conservation Fund (LWCF) parcels. Following that stop the group will head to Lemhi Pass/Agency Creek area where they will look at the site location for a possible new cabin along the Continental Divide Trail. While on the Pass, local archaeologist will provide background on the Lemhi Pass National Historic Landmark. The group will have lunch in the field before departing for home around 1:30 p.m.

The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. The IFD RAC will hear public comment from 10:30-11:00 a.m. on September 20. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: August 15, 2016.
Sarah Wheeler,
Resource Advisory Council Coordinator, Idaho Falls District.

[FR Doc. 2016-20228 Filed 8-23-16; 8:45 am]

BILLING CODE 4310-GG-P